DEPARTMENT OF THE INTERIOR

Bureau of Land Management

[LLMT926000-L14200000-BJ0000]

Notice of Filing of Plats of Survey; Montana

AGENCY: Bureau of Land Management, Interior.

ACTION: Notice of filing of plats of survey.

SUMMARY: The Bureau of Land Management (BLM) will file the plat of survey of the lands described below in the BLM Montana State Office, Billings, Montana, on December 12, 2011.

DATES: Protests of the survey must be filed before December 12, 2011 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, Marvin_Montoya@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: This survey was executed at the request of the Bureau of Land Management, Dillon Field Office, and was necessary to determine federal interest lands.

The lands we surveyed are:

Principal Meridian, Montana

T. 2 S., R. 3 W.

The plat, in one sheet, representing the dependent resurvey of Mineral Survey No. 6594, Alice Lode, Township 2 South, Range 3 West, Principal Meridian, Montana, was accepted October 28, 2011. We will place a copy of the plat, in one sheet, in the open files. It will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. chapter 3.

Steve L. Toth,
Acting Chief Cadastral Surveyor, Division of Resources.

[FR Doc. 2011-29165 Filed 11-9-11; 8:45 am]

BILLING CODE 4310-DN-P